DEPARTMENT OF TRANSPORTATION

Federal Aviation Administration

14 CFR Part 36

[Docket No. FAA-2000-7958; Amendment No. 36-25]

RIN 2120-AH10

Noise Certification Regulations for Helicopters

Correction

In rule document 04-12069 beginning on page 31226 in the issue of Wednesday, June 2, 2004, make the following correction:

Appendix H to Part 36—Noise Requirements for Helicopters Under Subpart H

On page 31244, remove Figure H3, duplicated from page 31242.

[FR Doc. C4-12069 Filed 7-8-04; 8:45 am]

BILLING CODE 1505-01-D